DEPARTMENT OF COMMERCE

National Oceanic and Atmospheric Administration

[RTID 0648-XF412]

Gulf Fishery Management Council; Public Meeting

AGENCY: National Marine Fisheries Service (NMFS), National Oceanic and Atmospheric Administration (NOAA), Commerce.

ACTION: Notice of a public meeting.

SUMMARY: The Gulf Fishery Management Council (Gulf Council) will hold a virtual meeting of its standing Scientific and Statistical Committee (SSC).

DATES: The meeting will be held Thursday, January 22, 2026, from 1 p.m.-4 p.m., EST.

ADDRESSES: The meeting will be held virtually via webinar. Registration information will be available on the Council's website by visiting www.gulfcouncil.org and clicking on the “meeting” tab.

Council address: Gulf Fishery Management Council, 4107 W Spruce Street, Suite 200, Tampa, FL 33607; telephone: (813) 348-1630.

FOR FURTHER INFORMATION CONTACT: Mr. Ryan Rindone, Lead Fishery Biologist, Gulf Fishery Management Council; ryan.rindone@gulfcouncil.org, telephone: (813) 348-1630.

SUPPLEMENTARY INFORMATION:

Thursday, January 22, 2026; 1 p.m.-4 p.m., EST

The meeting will begin with introductions and adoption of agenda, review and approval of Meeting Minutes from the October 2025 SSC webinar meeting, and Scope of Work.

The SSC will then review the Gulf Lane Snapper Interim Analysis, Gulf Gag Grouper Interim Analysis and Gulf Red Grouper Interim Analysis Health Check, including presentations, background material, and SSC discussions.

Public comments and Other Business items will be heard at the end of the day, if any.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are accessible to people with disabilities. Requests for auxiliary aid should be directed to Kathy Pereira, (813) 348-1630, at least 5 days prior to the meeting date.

Authority: 16 U.S.C. 1801 et seq.

Dated: January 2, 2026.
Becky J. Curtis,
Acting Deputy Director, Office of Sustainable Fisheries, National Marine Fisheries Service.

[FR Doc. 2026-00025 Filed 1-5-26; 8:45 am]

BILLING CODE 3510-22-P